DEPARTMENT OF THE INTERIOR

Bureau of Land Management

[WY-050-1310-DB]

Notice of Intent To Prepare an Environmental Impact Statement (EIS) for the GMI Natural Gas Development Project, Fremont and Natrona Counties, WY

AGENCY: Bureau of Land Management, Interior.

ACTION: Notice of Intent (NOI).

SUMMARY: The Bureau of Land Management (BLM) Lander Field Office announces its intent to prepare an EIS for a proposed conventional natural gas field development near Lysite, Wyoming. The proposed development project is known as the Gun Barrel/Madden and Iron Horse (GMI) Natural Gas Development Project and is located in Fremont and Natrona Counties, Wyoming.

DATES: This NOI initiates the public scoping process for the EIS. The purpose of the public scoping process is to determine relevant issues that will influence the scope of the environmental analysis and EIS alternatives. To provide the public with an opportunity to review the proposed project and project information, the BLM will host a meeting in Lander and a meeting in Casper, Wyoming, within 30 days of the publication of this notice. The BLM will notify the public of these meetings and any other opportunities for the public to be involved in the environmental process for this proposal at least 15 days prior to the event. Meeting dates, locations, and times will be announced by news release to the media, individual mailings, and postings on the following BLM Web site: http://www.blm.gov/wy/st/en/info/NEPA/lfodocs/gmi.html. To be most helpful, you should submit formal scoping comments within 30 days after this NOI is published.

Before including your address, phone number, email address, or other personal identifying information in your comment, you should be aware that your entire comment—including your personal identifying information—may be made publically available at any time. While you can ask us in your comment to withhold your personal indentifying information from public review, we cannot guarantee that we will be able to do so. The minutes and list of attendees for each scoping meeting will be made available to the public and open for 30 days after the meeting to any participant who wished to clarify the views he or she expressed.

ADDRESSES: You may submit written comments by any of the following methods:

• Web site: http://www.blm.gov/wy/st/en/info/NEPA/lfodocs/gmi.html

• E-mail: 3Pam_Olson@blm.gov

• Fax: 307-332-8444

• Mail: Lander Field Office, 1335 Main Street, Lander, WY 82520.

FOR FURTHER INFORMATION CONTACT: Bureau of Land Management, Pam Olson, GMI Project Leader, Lander Field Office, 1335 Main Street, Lander, Wyoming 82520 or call (307) 332-8400, or send an electronic message to: Pam_Olson@blm.gov.

SUPPLEMENTARY INFORMATION: Under Section 102(2)(C) of the National Environmental Policy Act (NEPA), the BLM Lander Field Office announces its intent to prepare an EIS on the potential impacts of a proposed natural gas field development, ancillary facilities, pipelines and roads. The project area is located in Fremont and Natrona Counties, Wyoming, and encompasses approximately 146,000 acres of land, the majority of which is public land administered by the BLM Lander Field Office. A small portion of the project area is administered by the BLM Casper Field Office.

In January 2008, oil and gas operators and proponents of the project, EnCana Oil & Gas (USA), Inc. (EnCana), Burlington Resources Oil and Gas Company LP (Burlington), and Noble Energy, Inc. (Noble) submitted a proposal to the BLM to develop approximately 1,470 wells near Lysite, Wyoming. The proposed project area consists of three units operated by three different companies: the Gun Barrel Federal Exploratory Unit (Encana), the Madden Deep Federal Exploratory Unit (Burlington), and the Iron Horse Federal Exploratory Unit (Noble).

The purpose of the proposal is to continue extracting and developing natural gas within these three units during a ten to fifteen year period. The proponents estimate that within the Gun Barrel Unit, an additional 750 natural gas wells may be drilled; within the Madden Deep Unit, approximately 300 wells may be drilled; and within the Iron Horse Unit, approximately 420 wells may be drilled.

Infrastructure required to support gas production would include: Well pads; water wells; gathering, treating, processing and compression facilities; water injection and evaporation facilities; electric powerlines; roads; gas flow lines; and pipelines. Gas would be transported through pipelines to centralized compression and treatment facilities.

Produced water would be reinjected in some instances, and disposed of through the use of surface facilities in other instances. Major issues identified at this time include: potential impacts to air quality; disposal of produced waste water; and potential effects of development and production on surface resources including vegetation and wildlife habitat.

Martin G. Griffith,
Acting State Director.

[FR Doc. E8-12620 Filed 6-4-08; 8:45 am]

BILLING CODE 4310-22-P